EQUAL EMPLOYMENT OPPORTUNITY COMMISSION

Agency Information Collection Activities: Submission for OMB Review; Final Comment Request

AGENCY: Equal Employment Opportunity Commission.

ACTION: Final notice of information collection under review; ADEA waivers.

SUMMARY: In accordance with the Paperwork Reduction Act of 1995, the Equal Employment Opportunity Commission (Commission or EEOC) gives notice that it has submitted to the Office of Management and Budget (OMB) a request for an extension without change of the existing collection requirements under 29 CFR 1625.22, Waivers of rights and claims under the Age Discrimination in Employment Act (ADEA). No public comments were received in response to the EEOC's November 20, 2006 60-Day notice soliciting comments on the proposed extension of this collection.

DATES: Written comments on this notice must be submitted on or before March 29, 2007.

ADDRESSES: The Request for Clearance (OMB 83-I), supporting statement, and other documents submitted to OMB for review may be obtained from: Danielle J. Hayot, Attorney-Advisor, Office of Legal Counsel, 1801 L Street, NW., Washington, DC 20507. Comments on this final notice must be submitted to Brenda Aguilar, Office of Information and Regulatory Affairs, Office of Management and Budget, 725 17th Street, NW., Room 10235, New Executive Office Building, Washington, DC 20503 or electronically mailed to baguilar@omb.eop.gov. Comments should also be submitted to Stephen Llewellyn, Acting Executive Officer, Executive Secretariat, Equal Employment Opportunity Commission, 10th Floor, 1801 L Street, NW., Washington, DC 20507. Comments of six or fewer pages in length may be transmitted to the EEOC's Executive Secretariat by facsimile (“FAX”) machine at (202) 663-4114. (This is not a toll-free-number.) This page limitation is necessary to assure access to the equipment. Receipt of FAX transmittals will not be acknowledged, except that the sender may request confirmation of receipt by calling the Executive Secretariat staff at (202) 663-4070 (voice) or (202) 663-4074 (TDD). (These are not toll-free telephone numbers.) Copies of comments submitted by the public will be available for review at the Commission's library, Room 6502, 1801 L Street, NW., Washington, DC 20507 between the hours of 9:30 a.m. and 5 p.m.

FOR FURTHER INFORMATION CONTACT: Thomas J. Schlageter, Assistant Legal Counsel, Office of Legal Counsel, at (202) 663-4640, or Danielle J. Hayot, Attorney-Advisor, at (202) 663-4695, or TTY (202) 663-7026. This notice is also available in the following formats: Large print, braille, audio tape and electronic file on computer disk. Requests for this notice in an alternative format should be made to the Publications Center at 1-800-669-3362.

SUPPLEMENTARY INFORMATION: The EEOC enforces the ADEA of 1967, as amended, 29 U.S.C. 621 et seq., which prohibits discrimination against employees and applicants for employment who are age 40 or older. Congress amended the ADEA by enacting the Older Workers Benefit Protection Act of 1990 (OWBPA), Public Law No. 101-433, 104 Stat. 983 (1990), to clarify the prohibitions against discrimination on the basis of age. In Title II of OWBPA, Congress addressed waivers of rights and claims under the ADEA, amending section 7 of the ADEA by adding a new subsection (f), 29 U.S.C. 626(f). The provisions of Title II of OWBPA require employers to provide certain information to employees (but not to EEOC) in writing. The regulation at 29 CFR 1625.22 reiterates those requirements.

The EEOC seeks extension without change of the information collection requirements contained in this recordkeeping regulation. On November 20, 2006, the Commission published a 60-Day Notice informing the public of its intent to request an extension of the information collection requirements from the Office of Management and Budget. 71 FR 67126-67127, November 20, 2006. No comments were received.

Collection Title: Informational requirements under Title II of the Older Workers Benefit Protection Act of 1990 (OWBPA), 29 CFR part 1625.

Form Number: None.

Frequency of Report: None required.

OMB Control No.: 3046-0042.

Type of Respondent: Business, Federal government, State or local governments, not for profit institutions.

Description of the Affected Public: Any employer with 20 or more employees that seeks waiver agreements in connection with exit incentive or other employment termination programs (hereinafter, “Programs”).

Responses: 13,998.

Reporting Hours: 20,997.

Number of Forms: None.

Federal Cost: None.

Abstract: This requirement involves providing adequate information in waiver agreements offered to a group or class of persons in connection with a Program, to satisfy the requirements of the OWBPA.

Burden Statement: The paperwork burden involved is the inclusion of the relevant information in waiver agreements under the OWBPA. The rule applies to those employers who have 20 or more employees and who offer waivers to a group or class of employees in connection with a Program.

Dated: February 21, 2007.
For the Commission:
Naomi C. Earp,
Chair.

[FR Doc. E7-3381 Filed 2-26-07; 8:45 am]

BILLING CODE 6570-01-P